DEPARTMENT OF TRANSPORTATION

Federal Highway Administration

[Docket No. FHWA-2026-0100]

Agency Information Collection Activities: Notice of Request for Reinstatement of a Previously Approved Information Collection

AGENCY: Federal Highway Administration (FHWA), DOT.

ACTION: Notice of request for reinstatement of a previously approved information collection.

SUMMARY: The FHWA invites public comments about our intention to request the Office of Management and Budget's (OMB) approval for reinstatement of a previously approved information collection that is summarized below under SUPPLEMENTARY INFORMATION. We are required to publish this notice in the Federal Register by the Paperwork Reduction Act of 1995.

DATES: Please submit comments by April 3, 2026.

ADDRESSES: You may submit comments identified by DOT Docket ID Number 0100 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Jim Garling, (803) 563-1198, Office of Administration, Federal Highway Administration, Department of Transportation, 1200 New Jersey Avenue SE, Washington, DC 20590. Office hours are from 7 a.m. to 4 p.m., Monday through Friday, except Federal holidays.

SUPPLEMENTARY INFORMATION:

Title: Advanced Transportation Technology and Innovation (ATTAIN) Program.

OMB Control: 2125-0666.

Background: The Advanced Transportation Technologies and Innovative Mobility Deployment Program (ATTIMD), established in Section 503(c)(4) of title 23, United States Code (U.S.C.), also known as the Advanced Transportation Technology and Innovation (ATTAIN) Program, directs FHWA to award grants to eligible entities to deploy, install, and operate advanced transportation technologies to improve safety, mobility, efficiency, system performance, intermodal connectivity, and infrastructure return on investment. These grant awards demonstrate how emerging transportation technologies, data, and their applications can be effectively deployed and integrated with existing systems to provide access to essential services and other destinations. The Assistance Listing Number for this opportunity is 20.200—Highway Research and Development.

Respondents: The estimated sixty-five RTEPF Grant Program recipients are required to submit quarterly reports documenting grant project actions and funding uses.

Frequency: Quarterly.

Estimated Average Burden per Response: One hour.

Estimated Total Annual Burden Hours: 260 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

(Authority: The Paperwork Reduction Act of 1995; 44 U.S.C. chapter 35, as amended; and 49 CFR 1.48.)

Issued on: January 29, 2026.
Jazmyne Lewis,
Information Collection Officer.

[FR Doc. 2026-02093 Filed 1-30-26; 8:45 am]

BILLING CODE 4910-22-P